ENVIRONMENTAL PROTECTION AGENCY

[FRL-8183-5]

Science Advisory Board Staff Office; Clean Air Scientific Advisory Committee (CASAC); Notification of a Public Meeting of the CASAC

AGENCY: Environmental Protection Agency (EPA).

ACTION: Notice.

SUMMARY: The Environmental Protection Agency (EPA or Agency) Science Advisory Board (SAB) Staff Office announces a public meeting of the Clean Air Scientific Advisory Committee (CASAC) to provide input on the Agency's process for reviewing National Ambient Air Quality Standards (NAAQS) for criteria air pollutants.

DATES: The meeting will be held from 1 to 4 p.m. (Eastern Time) on Thursday, June 29, 2006.

Location: The meeting will take place at the Marriott at Research Triangle Park, 4700 Guardian Drive, Durham, NC, 27703, Phone: (919) 941-6200.

FOR FURTHER INFORMATION CONTACT: Any member of the public who wishes to submit written or brief oral comments (three minutes or less) or wants further information concerning this meeting must contact Mr. Fred Butterfield, Designated Federal Officer (DFO), EPA Science Advisory Board (1400F), U.S. Environmental Protection Agency, 1200 Pennsylvania Avenue, NW., Washington, DC 20460; via telephone/voice mail: (202) 343-9994; fax: (202) 233-0643; or e-mail at: butterfield.fred@epa.gov. General information concerning the CASAC or the EPA Science Advisory Board can be found on the EPA Web site at: http://www.epa.gov/sab.

SUPPLEMENTARY INFORMATION: Background: The CASAC, which is comprised of seven members appointed by the EPA Administrator, was established under section 109(d)(2) of the Clean Air Act (CAA) (42 U.S.C. 7409) as an independent scientific advisory committee, in part to provide advice, information and recommendations on the scientific and technical aspects of issues related to air quality criteria and NAAQS under sections 108 and 109 of the Act. The CASAC is a Federal advisory committee chartered under the Federal Advisory Committee Act (FACA), as amended, 5 U.S.C., App.

On December 15, 2005, the EPA Deputy Administrator initiated a review of the process that the Agency uses to periodically review and revise, as appropriate, the air quality criteria and NAAQS for the six criteria air pollutants, pursuant to section 109(d)(1) of the CAA. In response to the Agency's request, on February 17, 2006 the SAB Staff Office Director solicited individual input from current and former CASAC members into this review of the NAAQS review process. These individual responses, which were compiled by the SAB Staff Office and provided to the Agency from March 16 to March 29, 2006, are available on the SAB Web site at URL: http://www.epa.gov/sab/panels/epa_rev_naaqs_rev_proc.htm. On April 3, 2006, EPA made publicly-available a March 2006 report of the Agency's NAAQS Process Review Workgroup, along with the recommendations of EPA's Office of Research and Development (ORD) and Office of Air and Radiation (OAR).

In response to the Agency's request, the CASAC is holding the public meeting to provide its input for EPA's recommended changes to the NAAQS review process. To facilitate the discussion at this June 29 meeting, on May 12, 2006 the CASAC provided the Administrator with its preliminary thoughts on the recommended changes to the NAAQS review process. The CASAC's May 12, 2006 letter to the Administrator is also posted on the SAB Web site at the above URL.

Availability of Meeting Materials: A copy of the draft agenda for this meeting will be posted on the SAB Web site at: http://www.epa.gov/sab (under the “Agendas” subheading) in advance of this public CASAC meeting. Other background and meeting-related materials, including discussion questions for the CASAC, will be posted prior to this meeting at URL: http://www.epa.gov/sab/panels/epa_rev_naaqs_rev_proc.htm.

Procedures for Providing Public Input: Interested members of the public may submit relevant written or oral information for the CASAC to consider during this public meeting. Oral Statements: Individuals or groups requesting an oral presentation at this meeting will be limited to three minutes per speaker, with a total of no more than 30 minutes for all speakers. Interested parties should contact Mr. Butterfield, DFO, in writing (preferably via e-mail), by June 22, 2006, at the contact information noted above, to be placed on the public speaker list for this meeting.

Written Statements: Written statements should be received in the SAB Staff Office by June 22, 2006, so that the information may be made available to the CASAC members for their consideration prior to this meeting. Written statements should be supplied to the DFO in the following formats: one hard copy with original signature, and one electronic copy via e-mail (acceptable file format: Adobe Acrobat PDF, WordPerfect, MS Word, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: June 7, 2006.
Vanessa Vu,
Director, EPA Science Advisory Board Staff Office.

[FR Doc. E6-9188 Filed 6-12-06; 8:45 am]

BILLING CODE 6560-50-P